DEPARTMENT OF TRANSPORTATION

Federal Aviation Administration

RTCA Special Committee 205/EUROCAE Working Group 71: Software Considerations in Aeronautical Systems Eighth Joint Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held June 23-27, 2008, from 8:30 a.m.-5 p.m (variable see daily schedule).

ADDRESSES: The meeting will be held at ENSEEIHT (referred as N7) 2, rue Charles CAMICHEL, Boite Postale 7122, 31071 TOULOUSE Cedex 7, France.

FOR FURTHER INFORMATION CONTACT: (1) RTCA Secretariat, 1828 L Street, NW., Suite 805, Washington, DC 20036; telephone (202) 833-9339; fax (202) 833-9434; Web site http://www.rtca.org; (2) Joint Secretaries, Europe: Mr. Ross Hannon, telephone +44 78807-46650, e-mail: ross_hannon@binternet.com; US: Ms. Leslie Alford, telephone +1-678-363-5948, e-mail: leslie.a.alford@boeing.com.

SUPPLEMENTARY INFORMATION: Pursuant to section 10(a)(2) of the Federal Advisory Committee Act (Pub.L. 92-463, 5 U.S.C., Appendix 2), notice is hereby given for a Special Committee 205/EUROCAE Working Group 71 meeting.

Note: On arrival at ENSEEIHT please have photo identification available (either a passport, a drivers license bearing a photograph or an identity card) to assist in your pass being issued.

• June 23:

• Registration.

• Review of Meeting Agenda and Agreement of Previous Minutes.

• Reports of Sub-Group Activity since January 2008.

• Other Committee/Other Documents Interfacing Reports.

• Plenary Text Acceptance (for papers posted, commented on and reworked prior to Plenary).

• New Members Introduction Session.

• Sub-Group Break Out Sessions.

• Closed of Day.

• Executive Committee and SG Chairs/Secretaries Meeting.

• June 24:

• Sub-Groups Break Out Session.

• Mandatory Paper Reading Session.

• Executive Committee and SG Chairs/Secretaries Meeting.

• June 25:

• Sub-Group Break Out Sessions.

• Plenary Text Acceptance (for papers posted, commented on and reworked prior to Plenary).

• Sub-Group Break Out Sessions.

• Executive Committee and SG Chairs/Secretaries Meeting.

• June 26:

• Sub-Group Break Out Sessions.

• Mandatory Paper Reading Session.

• Executive Committee and SG Chairs/Secretaries Meeting.

• June 27:

• Sub-Group Break Out Sessions.

• Plenary Text Approval (reworked and lated posted papers).

• SGs Reports.

• SGI: SCWG Document Integration Sub-Group.

• SG2: Issue & Rationale Sub-Group.

• SG3: Tool Qualification Sub-Group.

• SG4: Model Based Design & Verification Sub-Group.

• SG5: Object Oriented Technology Sub-Group.

• SG6: Formal Methods Sub-Group.

• SG7: Special Considerations Sub-Group.

• Closing Plenary Session (Other Business, Schedule Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 10, 2008.
Francisco Estrada C.,
RTCA Advisory Committee.

[FR Doc. E8-8221 Filed 4-17-08; 8:45 am]

BILLING CODE 4910-13-M